DEPARTMENT OF COMMERCE

National Oceanic and Atmospheric Administration

[I.D. 120999G]

National Plan for the Reduction of Incidental Catch of Seabirds in Longline Fisheries

AGENCY: National Marine Fisheries Service (NMFS), National Oceanic and Atmospheric Administration (NOAA), Commerce.

ACTION: Notice of extension of public comment period.

SUMMARY: A draft National Plan of Action for the Reduction of Incidental Catch of Seabirds in Longline Fisheries (NPOA-Seabirds) was released for public comment on December 27, 1999, through a Federal Register notice. The public comment period listed in the previous notice expired on January 18, 2000. This notice extends this public comment period to February 7, 2000.

DATES: Written comments to the draft NPOA-Seabirds should be received no later than February 7, 2000.

ADDRESSES: Comments on the NPOA-Seabirds should be sent to David Kerstetter, NOAA - Fisheries/SF4, 1315 East-West Highway, Silver Spring, MD 20910, or by fax to 301-713-2313. Comments will not be accepted via e-mail or internet.

FOR FURTHER INFORMATION CONTACT: David Kerstetter, (301) 713-2276, ext. 107, or fax 301-713-2313.

SUPPLEMENTARY INFORMATION: The United States, through a collaborative effort with the U.S. Fish and Wildlife Service, is developing a NPOA-Seabirds pursuant to the endorsement of the International Plan of Action for the Reduction of Incidental Catch of Seabirds in Longline Fisheries by the Food and Agriculture Organization of the United Nations Committee on Fisheries (COFI) Meeting in February 1999. The United States has committed itself to completing the NPOA-Seabirds and reporting to COFI no later than 2001.

A previous Federal Register notice dated December 29, 1999 (64 FR 73017) provided notice of the availability of a draft NPOA-Seabirds and stated that public comment on this draft would be accepted until January 18, 2000. This notice extends the period of public comment to February 7, 2000.

Dated: January 27, 2000.
Bruce C. Morehead,
Acting Director, Office of Sustainable Fisheries, National Marine Fisheries Service.

[FR Doc. 00-2194 Filed 2-1-00; 8:45 am]

BILLING CODE 3510-22-F